FEDERAL COMMUNICATIONS COMMISSION

47 CFR Part 73

[DA 04-913; MM Docket No. 01-218; RM-10237]

Radio Broadcasting Services; Erick and Mangum, OK

AGENCY: Federal Communications Commission.

ACTION: Final rule.

SUMMARY: The Audio Division, at the request of Erick Broadcasting Company, allots Channel 259C2 at Erick, Oklahoma, as the community's first local FM service. This allotment at Erick, Oklahoma, was adopted in lieu of the original proposal of Jeraldine Anderson, requesting the allotment of Channel 259C2 at Mangum, Oklahoma. Channel 259C2 can be allotted to Erick, Oklahoma, in compliance with the Commission's minimum distance separation requirements with a site restriction of 15.9 km (9.9 miles) south of Erick. The coordinates for Channel 259C2 at Erick, Oklahoma, are 35-04-01 North Latitude and 99-52-52 West Longitude. A filing window for Channel 259C2 at Erick, Oklahoma, will not be opened at this time. Instead, the issue of opening this allotment for auction will be addressed by the Commission in a subsequent Order.

DATES: Effective May 20, 2004.

FOR FURTHER INFORMATION CONTACT: Deborah Dupont, Media Bureau, (202) 418-2180.

SUPPLEMENTARY INFORMATION: This is a synopsis of the Commission's Report and Order, MM Docket No. 01-218, adopted April 2, 2004, and released April 5, 2004. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Erick, Channel 259C2.

Federal Communications Commission.
John A. Karousos,
Assistant Chief, Audio Division, Media Bureau.

[FR Doc. 04-8686 Filed 4-15-04; 8:45 am]

BILLING CODE 6712-01-P